DEPARTMENT OF HEALTH AND HUMAN SERVICES

Health Resources and Services Administration

National Advisory Council on the National Health Service Corps; Meeting

In accordance with section 10(a)(2) of the Federal Advisory Committee Act (Pub. L. 92-63), notice is hereby given of the following Federal advisory committee meeting. The meeting will be open to the public.

Name: National Advisory Council on the National Health Service Corps.

Date and Time: March 27, 2003, 5 p.m.-7 p.m.; March 28, 2003, 8:30 a.m.-5 p.m.; March 29, 2003, 9 a.m. to 5:30 p.m.; March 30, 2003, 8 a.m.-10:30 a.m.

Place: Churchill Hotel, 1914 Connecticut Avenue, NW., Washington, DC 20009, (202) 797-2000.

Agenda: The agenda will focus on meeting with Agency management to determine the desired areas of recommendations for the Council to address in the upcoming year. The Council will also review the new NHSC Legislation to discuss possible areas of recommendations. Agenda items and times are subject to change as priorities dictate.

For Further Information Contact: Tira Robinson, Division of National Health Service Corps, Bureau of Health Professions, Health Resources and Services Administration, Parklawn Building, Room 8A-55, 5600 Fishers Lane, Rockville, Maryland 20857, telephone (301) 594-4140.

Dated: February 11, 2003.
Jane M. Harrison,
Director, Division of Policy Review and Coordination.

[FR Doc. 03-3814 Filed 2-14-03; 8:45 am]

BILLING CODE 4165-15-P